DEPARTMENT OF THE INTERIOR

Bureau of Land Management

[LLNVW03000.L14300000.EU0000; 14-08807]

Notice of Realty Action; Modified Competitive Sealed-Bid Sale of Public Land at Schoolhouse Butte (N-85116), Humboldt County, NV; Correction

AGENCY: Bureau of Land Management, Interior.

ACTION: Correction.

SUMMARY: This notice corrects the date that the Bureau of Land Management will open sealed bids for this public land sale. The original notice, which published on September 25, 2013 (78 FR 59055), incorrectly stated the date.

On page 59055, column 2, line 4 below the chart, which reads, “November 25, 2013,” is hereby corrected to read, “November 26, 2013.”

Gene Seidlitz,
District Manager, Winnemucca.

[FR Doc. 2013-25781 Filed 10-29-13; 8:45 am]

BILLING CODE 4310-HC-P